DEPARTMENT OF THE INTERIOR

National Park Service

National Register of Historic Places; Notification of Pending Nominations and Related Actions

Nominations for the following properties being considered for listing or related actions in the National Register were received by the National Park Service before July 5, 2008.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by August 5, 2008.

J. Paul Loether,
Chief, National Register of Historic Places/National Historic Landmarks Program.

ARIZONA

Pima County

Barrio El Hoyo Historic District, Roughly bounded by W. Cushing St. on the N., W. 18th St. on the S., S. 11th Ave. on the E., and S. Samaniego Ave., Tucson, 08000763

COLORADO

Las Animas County

Pleasant Valley School, (New Deal Resources on Colorado's Eastern Plains MPS) Co. Rd. 143 just S. of U.S. Hwy. 160, Branson, 08000764

LOUISIANA

East Baton Rouge Parish

Heidelberg Hotel and Hotel King, 200 Lafayette St., Baton Rouge, 08000765

Lafourche Parish

Frost House, 612 St. Philip St., Thibodaux, 08000766

MONTANA

Powell County

Deer Lodge Central Business Historic District, Roughly bounded by Cottonwood Ave. to the N., Montana Ave. to the S., 2nd St. to the W. and 4th St. to the E., Deer Lodge, 08000767

NEBRASKA

Douglas County

M.A. Disbrow and Company Buildings, 1201-1221 Nicholas St., 1206, 1218, 1224 Izard St., Omaha, 08000768

NEW YORK

Allegany County

Friendship Free Library, 40 W. Main St., Friendship, 08000769

Herkimer County

Blatchley House, 370 Blatchley Rd., Jordanville, 08000770

Orange County

Christ Church, 6 Orchard St., Middletown, 08000771

Seneca County

Cobblestone Farmhouse at 1229 Birdsey Road, (Cobblestone Architecture of New York State MPS) 1229 Birdsey Rd., Junius, 08000772

NORTH CAROLINA

Chatham County

Woody, Burdett, House, (Chatham County MRA) 2232 White Smith Rd., Siler City, 08000773

Cleveland County

Double Shoals Cotton Mill, 199 Old Mill Rd., Double Shoals, 08000775

Durham County

Liberty Warehouse Nos. 1 and 2, (Durham MRA) 611-613 Rigsbee Ave., Durham, 08000774

[FR Doc. E8-16531 Filed 7-18-08; 8:45 am]

BILLING CODE 4310-70-P